DEPARTMENT OF JUSTICE

Notice of Lodging of Consent Decrees Under the Lead-Based Paint Hazard Act

Notice is hereby given that on July 1, 2004, a proposed consent decree in United States v. Dominium Management Services, Inc., Civil Action No. 04-CV-3088, and a proposed consent decree in United States v. Zeman, Civil Action No. 04-CV-3087, were lodged with the United States District Court for the District of Minnesota.

The consent decrees settle claims against owners of residential housing principally in Minneapolis, which were brought on behalf of the Department of Housing and Urban Development and the Environmental Protection Agency under the Residential Lead-Based Paint Hazard Reduction Act, 42 U.S.C. 4851 et seq. (“Lead Hazard Reduction Act”). The United States alleged in each of its complaints that the defendants failed to provide information to tenants concerning lead-based paint hazards, and failed to disclose to tenants the presence of any known lead-based paint or any known lead-based paint hazards.

Under the Dominium consent decree, the defendant has agreed to provide the required notice and disclosures, remove all the lead-based paint in all of its buildings that contain lead and provide lead-free certificates to HUD. In addition, Dominium has agreed to pay an administrative penalty of $10,000 to the United States and will spend an additional $70,000 on lead abatement work in the Minneapolis area.

Under the Zeman decree, the defendant has agreed to provide the required notice and disclosures and to perform lead-based paint abatement of all lead-based paint discovered in the units he owns. In addition, Zeman has agreed to pay an administrative penalty of $2,000 to the United States.

The Department of Justice will receive for a period of thirty (30) days from the date of this publication comments relating to the consent decrees. Comments should be addressed to the Assistant Attorney General of the Environment and Natural Resources Division, Department of Justice, P.O. Box 7611, Washington, DC 20044-7611, and should refer to United States v. Dominium Management Services, Inc., D.J. #90-5-1-1-08289, or United States v. Zeman, D.J. #90-5-1-1-08288.

The proposed consent decrees may be examined at the Department of Housing and Urban Development, Office of Healthy Homes and Lead Hazard Control, attention: Tara Jordan, 490 L'Enfant Plaza, SW., Room 3206, Washington, DC 20410, (202) 755-1785, ext. 157; at the office of the United States Attorney for the District of Minnesota, 600 U.S. Courthouse, 300 South Fourth Street, Minneapolis, Minnesota 55415, and at U.S. EPA Region 5, 77 W. Jackson Boulevard, Chicago, Illinois 60604. During the public comment period, the consent decrees may also be examined on the following Department of Justice Web site, http://www.usdoj.gov/enrd/open.html. Copies of the consent decrees may also be obtained by mail from the Consent Decree Library, P.O. Box 7611, U.S. Department of Justice, Washington, DC 2004-7611 or by faxing or e-mailing a request to Tonia Fleetwood (tonia .fleetwood@usdoj.gov), fax No. (202) 514-0097, phone confirmation No. (202) 514-1547. In requesting a copy please refer to the referenced case and enclose a check in the amount of $10.00 (25 Cents per page reproduction costs), payable to the U.S. Treasury for the consent decree in United States v. Dominium Management Services, Inc., D.J. #90-5-1-1-08289, and $9.75 (25 cents per page reproduction costs), payable to the U.S. Treasury, for the consent decree in United States v. Zeman, D.J. #90-5-1-1-08288.

Karen Dworkin,
Assistant Chief, Environmental Enforcement Section, Environment and Natural Resources Division.

[FR Doc. 04-15998 Filed 7-13-04; 8:45 am]

BILLING CODE 4410-15-M